DEPARTMENT OF TRANSPORTATION

National Highway Traffic Safety Administration

49 CFR Part 541

[Docket No. NHTSA-2004-17359]

RIN 2127-AJ27

Final Theft Data; Motor Vehicle Theft Prevention Standard

AGENCY: National Highway Traffic Safety Administration (NHTSA), Department of Transportation.

ACTION: Publication of final theft data.

SUMMARY: This document publishes the final data on thefts of model year (MY) 2002 passenger motor vehicles that occurred in calendar year (CY) 2002. The final 2002 theft data indicate a decrease in the vehicle theft rate experienced in CY/MY 2002. The final theft rate for MY 2002 passenger vehicles stolen in calendar year 2002 (2.49 thefts per thousand vehicles) decreased by 23.6 percent from the theft rate for CY/MY 2001 (3.26 thefts per thousand vehicles) when compared to the theft rate experienced in CY/MY 2001. Publication of these data fulfills NHTSA's statutory obligation to periodically obtain accurate and timely theft data and publish the information for review and comment.

FOR FURTHER INFORMATION CONTACT: Ms. Deborah Mazyck, Office of International Policy, Fuel Economy and Consumer Programs, NHTSA, 400 Seventh Street, SW., Washington, DC 20590. Ms. Mazyck's telephone number is (202) 366-0846. Her fax number is (202) 493-2290.

SUPPLEMENTARY INFORMATION: NHTSA administers a program for reducing motor vehicle theft. The central feature of this program is the Federal Motor Vehicle Theft Prevention Standard, 49 CFR part 541. The standard specifies performance requirements for inscribing and affixing vehicle identification numbers (VINs) onto certain major original equipment and replacement parts of high-theft lines of passenger motor vehicles.

The agency is required by 49 U.S.C. 33104(b)(4) to periodically obtain, from the most reliable source, accurate and timely theft data and publish the data for review and comment. To fulfill this statutory mandate, NHTSA has published theft data annually beginning with MYs 1983/84. Continuing to fulfill the § 33104(b)(4) mandate, this document reports the final theft data for CY 2002, the most recent calendar year for which data are available.

In calculating the 2002 theft rates, NHTSA followed the same procedures it used in calculating the MY 2001 theft rates. (For 2001 theft data calculations, see 68 FR 54857, September 19, 2003.) As in all previous reports, NHTSA's data were based on information provided to NHTSA by the National Crime Information Center (NCIC) of the Federal Bureau of Investigation. The NCIC is a government system that receives vehicle theft information from nearly 23,000 criminal justice agencies and other law enforcement authorities throughout the United States. The NCIC data also include reported thefts of self-insured and uninsured vehicles, not all of which are reported to other data sources.

The 2002 theft rate for each vehicle line was calculated by dividing the number of reported thefts of MY 2002 vehicles of that line stolen during calendar year 2002 by the total number of vehicles in that line manufactured for MY 2002, as reported to the Environmental Protection Agency (EPA).

The final 2002 theft data show a decrease in the vehicle theft rate when compared to the theft rate experienced in CY/MY 2001. The final theft rate for MY 2002 passenger vehicles stolen in calendar year 2002 decreased to 2.49 thefts per thousand vehicles produced, a decrease of 23.6 percent from the rate of 3.26 thefts per thousand vehicles experienced by MY 2001 vehicles in CY 2001. For MY 2002 vehicles, out of a total of 225 vehicle lines, 38 lines had a theft rate higher than 3.5826 per thousand vehicles, the established median theft rate for MYs 1990/1991. (See 59 FR 12400, March 16, 1994.) Of the 38 vehicle lines with a theft rate higher than 3.5826, 34 are passenger car lines, three are multipurpose passenger vehicle lines, and one is a light-duty truck line.

On Tuesday, April 6, 2004, NHTSA published the preliminary theft rates for CY 2002 passenger motor vehicles in the Federal Register (69 FR 18010). The agency tentatively ranked each of the MY 2002 vehicle lines in descending order of theft rate. The public was requested to comment on the accuracy of the data and to provide final production figures for individual vehicle lines. The agency used written comments to make the necessary adjustments to its data. As a result of the adjustments, some of the final theft rates and rankings of vehicle lines changed from those published in the April 2004 notice. The agency received written comments from General Motors Corporation (GM) and Volkswagen of America, Inc. (VW).

In its comments, GM informed the agency that the Pontiac Grand Am was incorrectly listed as the “Grant Am” and the GMC Safari Van was incorrectly listed as the “Safara Van.” The final theft data has been revised to reflect the correct nomenclature for the Pontiac Grand Am and the GMC Safari Van.

GM also informed the agency that the production volume for the Chevrolet Cavalier, the Chevrolet Astro Van, and the Saturn VUE is incorrect. In response to this comment, the production volume for the Chevrolet Cavalier, the Chevrolet Astro Van, and the Saturn VUE has been reviewed and the final theft list has been revised to correct those production errors. As a result of the correction, the Chevrolet Cavalier previously ranked No. 30 with a theft rate of 3.9232 remains ranked at No. 30 with a theft rate of 3.8780. The Chevrolet Astro Van previously ranked No. 119 with a theft rate of 1.7072 is now ranked No. 120 with a revised theft rate of 1.7196. The Saturn VUE previously ranked No. 188 with a theft rate of 0.6073 is now ranked No. 189 with a revised theft rate of 0.5970. Additionally, GM informed the agency that the production volume for the General Motors Funeral Coach/Hearse was listed incorrectly. As a result of the agency's review, the new information provided by GM resulted in no change to the ranking or theft rate for this line. Additionally, further analysis of the data revealed the Funeral Coach/Hearse is a Cadillac Funeral Coach/Hearse. The theft rate list has been revised to reflect the correction in its nomenclature.

Further reanalysis of the theft rate data revealed that the Cadillac Limousine, BMW M3 and BMW M5 were erroneously omitted from the April 6, 2004 publication of preliminary theft data. The agency has corrected the final theft data to include the theft rate information for the Cadillac Limousine, BMW M3 and BMW M5 vehicles. As a result of this correction, the Cadillac Limousine is ranked No. 213 with a theft rate of 0.0000, the BMW M3 is ranked No. 23 with a theft rate of 4.8012 and the BMW M5 is ranked No. 62 with a theft rate of 2.7510.

VW also informed the agency that the production volume for the Audi TT/Quattro and the Bentley Arnage was listed incorrectly. As a result of VW's comments, the production volume for the Audi TT/Quattro and the Bentley Arnage have been corrected and the final theft list has been revised. The Audi TT/Quattro previously ranked No. 136 with a theft rate of 1.4268 is now ranked No. 148 with a theft rate of 1.2575. The Bentley Arnage previously ranked No. 220 with a theft rate of 0.0000 is now ranked No. 221 with the theft rate unchanged.

VW informed the agency that the S4/Quattro ranked at No. 2 was incorrectly listed as the “24/Quattro.” Because the S4 is a model within the A4 vehicle line, production and theft totals have been combined for the A4 vehicle line and the theft data has been revised accordingly. The Audi A4 is now ranked No. 110 with a theft rate of 1.8970. Additionally, because the S6 is a model within the A6 vehicle line, production and theft totals have been combined for the A6 vehicle line and the theft data has been revised accordingly. The Audi A6 vehicle line is now ranked No. 188 with a theft rate of 0.6303.

Further review of the final theft list revealed that the Acura Integra was erroneously listed. The Acura Integra was not produced in MY 2002. The correct name designation for the vehicle previously ranked No. 87 (Integra) should be changed to the Acura RSX now ranked No. 88. The final theft list has been revised accordingly.

The following list represents NHTSA's final calculation of theft rates for all 2002 passenger motor vehicle lines. This list is intended to inform the public of calendar year 2002 motor vehicle thefts of model year 2002 vehicles and does not have any effect on the obligations of regulated parties under 49 U.S.C. chapter 331, Theft Prevention.

Final Theft Rates of Model Year 2002 Passenger Motor Vehicles Stolen in Calendar Year 2002
Number | Manufacturer | Make/model (line) | Thefts 2002 | Production (Mfr's) 2002 | 2002 theft rate (per 1,000 vehicles produced)
1 | DAIMLERCHRYSLER | CHRYSLER NEON ¹ | 1 | 24 | 41.6667
2 | DAIMLERCHRYSLER | DODGE INTREPID | 1,657 | 111,491 | 14.8622
3 | DAIMLERCHRYSLER | DODGE STRATUS | 1,254 | 106,771 | 11.7448
4 | SUZUKI | ESTEEM | 108 | 9,670 | 11.1686
5 | DAIMLERCHRYSLER | CHRYSLER SEBRING | 611 | 75,163 | 8.1290
6 | DAIMLERCHRYSLER | DODGE NEON | 959 | 119,253 | 8.0417
7 | HONDA | ACURA NSX | 2 | 254 | 7.8740
8 | MITSUBISHI | MONTERO | 206 | 27,266 | 7.5552
9 | MITSUBISHI | GALANT | 668 | 92,948 | 7.1868
10 | MITSUBISHI | MIRAGE | 60 | 9,240 | 6.4935
11 | MITSUBISHI | MONTERO SPORT | 350 | 57,457 | 6.0915
12 | FORD MOTOR CO. | FORD F150 PICKUP | 27 | 4,473 | 6.0362
13 | AUDI | S8 | 2 | 340 | 5.8824
14 | MITSUBISHI | ECLIPSE | 239 | 41,334 | 5.7822
15 | NISSAN | MAXIMA | 490 | 86,036 | 5.6953
16 | KIA MOTORS | OPTIMA | 155 | 27,593 | 5.6174
17 | FORD MOTOR CO. | FORD ESCORT | 457 | 81,672 | 5.5956
18 | GENERAL MOTORS | PONTIAC GRAND AM | 838 | 154,306 | 5.4308
19 | DAIMLERCHRYSLER | CHRYSLER SEBRING CONVERTIBLE | 251 | 46,637 | 5.3820
20 | MITSUBISHI | LANCER | 397 | 73,991 | 5.3655
21 | DAIMLERCHRYSLER | CHRYSLER CONCORDE | 194 | 37,131 | 5.2247
22 | MITSUBISHI | DIAMANTE | 96 | 19,707 | 4.8714
23 | BMW | M3 | 46 | 9,581 | 4.8012
24 | DAIMLERCHRYSLER | CHRYSLER INTREPID | 6 | 1,254 | 4.7847
25 | TOYOTA | COROLLA | 690 | 147,983 | 4.6627
26 | DAIMLERCHRYSLER | CHRYSLER 300M | 167 | 36,663 | 4.5550
27 | GENERAL MOTORS | OLDSMOBILE ALERO | 333 | 79,373 | 4.1954
28 | KIA MOTORS | SPECTRA | 298 | 71,837 | 4.1483
29 | KIA MOTORS | RIO | 227 | 57,292 | 3.9622
30 | GENERAL MOTORS | CHEVROLET CAVALIER | 1,017 | 262,251 | 3.8780
31 | TOYOTA | LEXUS IS | 93 | 24,079 | 3.8623
32 | GENERAL MOTORS | CADILLAC SEVILLE | 97 | 25,128 | 3.8602
33 | SUZUKI | VITARA/GRAND | 232 | 60,318 | 3.8463
34 | NISSAN | SENTRA | 434 | 113,962 | 3.8083
35 | GENERAL MOTORS | PONTIAC SUNFIRE | 286 | 76,445 | 3.7413
36 | DAIMLERCHRYSLER | CHRYSLER PROWLER | 5 | 1,348 | 3.7092
37 | GENERAL MOTORS | CHEVROLET MONTE CARLO | 252 | 68,570 | 3.6751
38 | FORD MOTOR CO. | LINCOLN TOWN CAR | 132 | 36,635 | 3.6031
39 | GENERAL MOTORS | CHEVROLET BLAZER S10/T10 | 369 | 103,341 | 3.5707
40 | GENERAL MOTORS | CHEVROLET MALIBU | 495 | 144,946 | 3.4151
41 | GENERAL MOTORS | CHEVROLET PRIZM | 96 | 28,197 | 3.4046
42 | NISSAN | ALTIMA | 651 | 192,701 | 3.3783
43 | HYUNDAI | ACCENT | 307 | 92,157 | 3.3313
44 | JAGUAR | XK8 | 8 | 2,455 | 3.2587
45 | MERCEDES-BENZ | 129 (SL-CLASS) | 9 | 2,776 | 3.2421
46 | NISSAN | INFINITI Q45 | 26 | 8,065 | 3.2238
47 | MAZDA | MILLENIA | 67 | 20,800 | 3.2212
48 | DAIMLERCHRYSLER | DODGE CARAVAN/GRAND | 772 | 241,696 | 3.1941
49 | ISUZU | TROOPER | 40 | 12,638 | 3.1651
50 | GENERAL MOTORS | OLDSMOBILE AURORA | 34 | 10,861 | 3.1305
51 | JAGUAR | S-TYPE | 38 | 12,319 | 3.0847
52 | TOYOTA | CELICA | 79 | 25,683 | 3.0760
53 | FORD MOTOR CO. | MERCURY SABLE | 322 | 105,415 | 3.0546
54 | GENERAL MOTORS | PONTIAC GRAND PRIX | 434 | 144,654 | 3.0003
55 | GENERAL MOTORS | CHEVROLET CAMARO | 121 | 40,383 | 2.9963
56 | FORD MOTOR CO. | FORD FOCUS | 753 | 252,987 | 2.9764
57 | FORD MOTOR CO. | LINCOLN LS | 153 | 51,704 | 2.9592
58 | GENERAL MOTORS | CHEVROLET CORVETTE | 99 | 33,586 | 2.9477
59 | DAEWOO | LANOS | 19 | 6,452 | 2.9448
60 | DAIMLERCHRYSLER | CHRYSLER VOYAGER | 120 | 41,348 | 2.9022
61 | HYUNDAI | SONATA | 225 | 80,049 | 2.8108
62 | BMW | M5 | 6 | 2,181 | 2.7510
63 | BMW | 7 | 50 | 18,222 | 2.7439
64 | GENERAL MOTORS | PONTIAC FIREBIRD/FORMULA | 81 | 29,687 | 2.7285
65 | FORD MOTOR CO. | FORD TAURUS | 842 | 321,556 | 2.6185
66 | FORD MOTOR CO. | MERCURY MOUNTAINEER | 196 | 77,787 | 2.5197
67 | DAIMLERCHRYSLER | JEEP CHEROKEE/GRAND | 533 | 211,786 | 2.5167
68 | HYUNDAI | ELANTRA | 299 | 118,962 | 2.5134
69 | JAGUAR | XKR | 4 | 1,595 | 2.5078
70 | HONDA | PASSPORT | 15 | 5,999 | 2.5004
71 | TOYOTA | TUNDRA PICKUP | 66 | 26,442 | 2.4960
72 | GENERAL MOTORS | BUICK REGAL | 95 | 39,124 | 2.4282
73 | NISSAN | INFINITI G20 | 31 | 12,788 | 2.4241
74 | TOYOTA | 4RUNNER | 205 | 85,126 | 2.4082
75 | GENERAL MOTORS | OLDSMOBILE INTRIGUE | 60 | 25,008 | 2.3992
76 | TOYOTA | LEXUS SC | 61 | 25,683 | 2.3751
77 | GENERAL MOTORS | BUICK CENTURY | 331 | 141,818 | 2.3340
78 | FORD MOTOR CO. | MERCURY GRAND MARQUIS | 146 | 62,648 | 2.3305
79 | FORD MOTOR CO. | FORD EXPLORER | 1,419 | 610,268 | 2.3252
80 | NISSAN | XTERRA | 231 | 99,887 | 2.3126
81 | MAZDA | 626 | 113 | 49,181 | 2.2976
82 | GENERAL MOTORS | CADILLAC DEVILLE | 209 | 91,057 | 2.2953
83 | SUZUKI | AERIO | 31 | 13,666 | 2.2684
84 | HONDA | ACURA 3.2 CL | 13 | 5,749 | 2.2613
85 | GENERAL MOTORS | SATURN LS | 191 | 84,966 | 2.2480
86 | MAZDA | PROTÉGÉ | 219 | 97,882 | 2.2374
87 | DAIMLERCHRYSLER | CHRYSLER PT CRUISER | 377 | 169,559 | 2.2234
88 | HONDA | ACURA RSX | 95 | 42,809 | 2.2192
89 | TOYOTA | RAV4 | 212 | 96,489 | 2.1971
90 | ISUZU | AXIOM | 40 | 18,280 | 2.1882
91 | TOYOTA | CAMRY/SOLARA | 1,027 | 472,030 | 2.1757
92 | MERCEDES-BENZ | 208 (CLK-CLASS) | 43 | 20,199 | 2.1288
93 | JAGUAR | XJ8 | 5 | 2,354 | 2.1240
94 | FORD MOTOR CO. | FORD RANGER PICKUP | 499 | 238,558 | 2.0917
95 | KIA MOTORS | SPORTAGE | 97 | 46,883 | 2.0690
96 | DAIMLERCHRYSLER | JEEP LIBERTY | 429 | 207,991 | 2.0626
97 | DAEWOO | NUBIRA | 11 | 5,351 | 2.0557
98 | GENERAL MOTORS | PONTIAC BONNEVILLE | 87 | 42,664 | 2.0392
99 | VOLVO | C70 | 7 | 3,454 | 2.0266
100 | HYUNDAI | XG | 38 | 18,842 | 2.0168
101 | TOYOTA | ECHO | 65 | 32,495 | 2.0003
102 | DAIMLERCHRYSLER | JEEP WRANGLER | 133 | 66,565 | 1.9980
103 | NISSAN | FRONTIER PICKUP | 181 | 90,964 | 1.9898
104 | GENERAL MOTORS | CADILLAC ELDORADO | 14 | 7,047 | 1.9867
105 | MERCEDES-BENZ | 215 (CL-CLASS) | 10 | 5,062 | 1.9755
106 | MERCEDES-BENZ | 220 (S-CLASS) | 53 | 26,918 | 1.9689
107 | DAEWOO | LEGANZA | 11 | 5,593 | 1.9667
108 | TOYOTA | TACOMA PICKUP | 315 | 162,322 | 1.9406
109 | GENERAL MOTORS | CHEVROLET TRACKER | 88 | 45,793 | 1.9217
110 | AUDI | A4/A4 QUATTRO/S4 | 73 | 38,482 | 1.8970
111 | GENERAL MOTORS | CHEVROLET IMPALA | 375 | 201,467 | 1.8613
112 | TOYOTA | LEXUS LS | 50 | 27,162 | 1.8408
113 | FORD MOTOR CO. | FORD ESCAPE | 291 | 159,322 | 1.8265
114 | NISSAN | INFINITI QX4 | 29 | 15,943 | 1.8190
115 | SUBARU | IMPREZA | 108 | 59,391 | 1.8185
116 | NISSAN | PATHFINDER | 107 | 59,409 | 1.8011
117 | GENERAL MOTORS | CHEVROLET S10/T10 PICKUP | 251 | 139,521 | 1.7990
118 | MAZDA | B-SERIES PICKUP | 40 | 22,275 | 1.7957
119 | VOLKSWAGEN | GOLF/GTI | 55 | 31,640 | 1.7383
120 | GENERAL MOTORS | CHEVROLET ASTRO VAN | 67 | 38,963 | 1.7196
121 | HONDA | S2000 | 17 | 10,049 | 1.6917
122 | GENERAL MOTORS | GMC SONOMA PICKUP | 66 | 39,292 | 1.6797
123 | HONDA | ACCORD | 702 | 419,398 | 1.6738
124 | VOLVO | S40 | 23 | 13,980 | 1.6452
125 | MAZDA | MX-5 MIATA | 22 | 13,544 | 1.6243
126 | VOLVO | S80 | 25 | 15,851 | 1.5772
127 | HONDA | ACURA 3.2 TL | 95 | 60,860 | 1.5610
128 | ISUZU | RODEO | 65 | 41,996 | 1.5478
129 | DAIMLERCHRYSLER | CHRYSLER TOWN & COUNTRY MPV | 202 | 130,937 | 1.5427
130 | HONDA | CIVIC | 500 | 329,778 | 1.5162
131 | JAGUAR | VANDEN PLAS/SUPER V8 | 3 | 1,981 | 1.5144
132 | MERCEDES-BENZ | 170 (SLK-CLASS) | 12 | 7,954 | 1.5087
133 | VOLKSWAGEN | JETTA | 218 | 144,790 | 1.5056
134 | GENERAL MOTORS | SATURN SL | 221 | 148,514 | 1.4881
135 | GENERAL MOTORS | CHEVROLET TRAILBLAZER | 375 | 253,249 | 1.4808
136 | FORD MOTOR CO. | MERCURY COUGAR | 35 | 24,485 | 1.4294
137 | BMW | 3 | 146 | 102,574 | 1.4234
138 | FORD MOTOR CO. | FORD CROWN VICTORIA | 32 | 22,564 | 1.4182
139 | PORSCHE | 911 | 17 | 12,034 | 1.4127
140 | TOYOTA | LEXUS GS | 25 | 17,863 | 1.3995
141 | FORD MOTOR CO. | FORD WINDSTAR VAN | 204 | 146,274 | 1.3946
142 | GENERAL MOTORS | BUICK PARK AVENUE | 42 | 31,913 | 1.3161
143 | NISSAN | INFINITI I35 | 40 | 30,604 | 1.3070
144 | PORSCHE | BOXSTER | 13 | 9,975 | 1.3033
145 | BMW | 5 | 45 | 39,445 | 1.2929
146 | MERCEDES-BENZ | 203 (C-CLASS) | 91 | 70,688 | 1.2873
147 | VOLKSWAGEN | EUROVAN/CAMPER | 7 | 5,472 | 1.2792
148 | AUDI | TT | 14 | 11,133 | 1.2575
149 | JAGUAR | X-TYPE | 44 | 35,659 | 1.2339
150 | HYUNDAI | SANTA FE | 99 | 82,824 | 1.1953
151 | VOLVO | S60 | 48 | 40,884 | 1.1741
152 | JAGUAR | XJR | 1 | 853 | 1.1723
153 | TOYOTA | MR2 SPYDER | 6 | 5,335 | 1.1246
154 | VOLVO | V40 | 3 | 2,680 | 1.1194
155 | GENERAL MOTORS | PONTIAC AZTEK | 20 | 17,886 | 1.1182
156 | GENERAL MOTORS | SATURN SC | 48 | 43,213 | 1.1108
157 | SAAB | 38233 | 20 | 18,055 | 1.1077
158 | VOLKSWAGEN | CABRIO | 13 | 11,749 | 1.1065
159 | GENERAL MOTORS | BUICK LESABRE | 148 | 137,737 | 1.0745
160 | KIA MOTORS | SEDONA VAN | 53 | 49,731 | 1.0657
161 | VOLKSWAGEN | PASSAT | 99 | 93,812 | 1.0553
162 | GENERAL MOTORS | GMC ENVOY | 112 | 108,650 | 1.0308
163 | MERCEDES-BENZ | 210 (E-CLASS) | 31 | 30,368 | 1.0208
164 | TOYOTA | AVALON | 69 | 67,772 | 1.0181
165 | TOYOTA | PRIUS | 23 | 22,737 | 1.0116
166 | FORD MOTOR CO. | LINCOLN CONTINENTAL | 19 | 18,804 | 1.0104
167 | VOLKSWAGEN | NEW BEETLE | 56 | 56,045 | 0.9992
168 | TOYOTA | SIENNA VAN | 82 | 85,417 | 0.9600
169 | NISSAN | QUEST VAN | 20 | 21,099 | 0.9479
170 | TOYOTA | LEXUS RX | 69 | 73,049 | 0.9446
171 | LAND ROVER | FREELANDER | 15 | 16,268 | 0.9221
172 | GENERAL MOTORS | GMC SAFARI VAN | 9 | 9,887 | 0.9103
173 | FORD MOTOR CO. | FORD MUSTANG | 705 | 775,153 | 0.9095
174 | MAZDA | TRIBUTE | 45 | 49,561 | 0.9080
175 | GENERAL MOTORS | OLDSMOBILE BRAVADA | 25 | 28,658 | 0.8724
176 | HONDA | ACURA 3.5 RL | 14 | 16,449 | 0.8511
177 | GENERAL MOTORS | BUICK RENDEZVOUS | 66 | 77,573 | 0.8508
178 | GENERAL MOTORS | CHEVROLET VENTURE VAN | 71 | 84,116 | 0.8441
179 | TOYOTA | HIGHLANDER | 90 | 110,530 | 0.8143
180 | TOYOTA | LEXUS ES | 57 | 70,517 | 0.8083
181 | GENERAL MOTORS | PONTIAC MONTANA VAN | 35 | 45,558 | 0.7683
182 | VOLVO | V70 | 9 | 12,144 | 0.7411
183 | HONDA | ACURA MDX | 36 | 48,998 | 0.7347
184 | DAIMLERCHRYSLER | DODGE DAKOTA PICKUP | 106 | 145,238 | 0.7298
185 | SUBARU | FORESTER | 39 | 55,114 | 0.7076
186 | QUANTUM TECH. | CHEVROLET CAVALIER | 1 | 1,483 | 0.6743
187 | FORD MOTOR CO. | MERCURY VILLAGER VAN | 12 | 18,364 | 0.6535
188 | AUDI | A6/A6 QUATTRO/S6/AVANT | 14 | 22,212 | 0.6303
189 | GENERAL MOTORS | SATURN VUE | 21 | 35,178 | 0.5970
190 | SUBARU | LEGACY/OUTBACK | 47 | 88,790 | 0.5293
191 | MAZDA | MPV VAN | 13 | 25,122 | 0.5175
192 | HONDA | INSIGHT | 1 | 2,006 | 0.4985
193 | FORD MOTOR CO. | FORD THUNDERBIRD | 14 | 28,639 | 0.4888
194 | BMW | MINI COOPER | 8 | 17,033 | 0.4697
195 | GENERAL MOTORS | OLDSMOBILE SILHOUETTE VAN | 11 | 23,863 | 0.4610
196 | HONDA | CR-V | 62 | 138,061 | 0.4491
197 | BMW | M/Z3 | 8 | 18,768 | 0.4263
198 | SAAB | 38235 | 6 | 15,339 | 0.3912
199 | HONDA | ODYSSEY VAN | 58 | 148,857 | 0.3896
200 | VOLVO | XC | 8 | 20,725 | 0.3860
201 | GENERAL MOTORS | SATURN LW | 4 | 11,273 | 0.3548
202 | FORD MOTOR CO. | FORD TH!NK NEIGHBOR | 2 | 6,613 | 0.3024
203 | ASTON MARTIN | VANQUISH | 0 | 127 | 0.0000
204 | ASTON MARTIN | VANTAGE | 0 | 265 | 0.0000
205 | AUDI | A8 | 0 | 672 | 0.0000
206 | AUDI | ALLROAD QUATTRO | 0 | 5,085 | 0.0000
207 | BMW | Z8 | 0 | 687 | 0.0000
208 | DAIMLERCHRYSLER | DODGE VIPER | 0 | 1,355 | 0.0000
209 | FERRARI | 360 | 0 | 684 | 0.0000
210 | FERRARI | 456 | 0 | 20 | 0.0000
211 | FERRARI | 575M | 0 | 208 | 0.0000
212 | GENERAL MOTORS | CADILLAC FUNERAL COACH/HEARSE | 0 | 1,032 | 0.0000
213 | GENERAL MOTORS | CADILLAC LIMOUSINE | 0 | 875 | 0.0000
214 | JAGUAR | XJS | 0 | 1,000 | 0.0000
215 | LAMBORGHINI | MURCIELAGO | 0 | 98 | 0.0000
216 | LOTUS | ESPRIT | 0 | 100 | 0.0000
217 | MASERATI | COUPE/SPIDER | 0 | 492 | 0.0000
218 | MITSUBISHI | NATIVA ² | 0 | 1,513 | 0.0000
219 | ROLLS-ROYCE | PARK WARD | 0 | 12 | 0.0000
220 | ROLLS-ROYCE | SILVER SERAPH | 0 | 63 | 0.0000
221 | ROLLS-ROYCE | BENTLEY ARNAGE | 0 | 256 | 0.0000
222 | ROLLS-ROYCE | BENTLEY AZURE | 0 | 101 | 0.0000
223 | ROLLS-ROYCE | BENTLEY CONTINENTAL R | 0 | 31 | 0.0000
224 | ROLLS-ROYCE | BENTLEY CONTINENTAL T | 0 | 2 | 0.0000
225 | ROLLS-ROYCE | BENTLEY CORNICHE | 0 | 37 | 0.0000
¹ This vehicle was manufactured under the Chrysler nameplate for sale in a U.S. Territory and only (Guam, American Samoa, Puerto Rico) and the Virgin Islands (St. Thomas and St. Croix).
² This vehicle was manufactured for sale only in Puerto Rico and represents the U.S. version of the Montero Sport line.

Issued on: August 25, 2004.
Stephen R. Kratzke,
Associate Administrator for Rulemaking.

[FR Doc. 04-19962 Filed 8-31-04; 8:45 am]

BILLING CODE 4910-59-P